DEPARTMENT OF HOMELAND SECURITY

Coast Guard

33 CFR Part 117

[Docket No. USCG-2021-0301]

Drawbridge Operation Regulation; Three Mile Creek, AL

AGENCY: Coast Guard, DHS.

ACTION: Notice of temporary deviation from regulations; request for comments.

SUMMARY: The Coast Guard has issued a temporary deviation from the operating schedule that governs the CSX Railroad drawbridge across Three Mile Creek, mile 0.0, Mobile, AL. This deviation is needed to collect and analyze data and information on vessel traffic when bridge openings are scheduled during specific periods during each day. This deviation will test a change to the drawbridge operation schedule to determine whether a permanent change to the schedule is needed. The Coast Guard is seeking comments from the public regarding these proposed changes.

DATES: This deviation is effective from 6 a.m. June 1, 2021 through 6 p.m. August 2, 2021.

Comments and relate material must reach the Coast Guard on or before July 1, 2021.

ADDRESSES: You may submit comments identified by docket number USCG-2021-0301 using Federal eRulemaking Portal at https://www.regulations.gov.

See the “Public Participation and Request for Comments” portion of the SUPPLEMENTARY INFORMATION section below for instructions on submitting comments.

FOR FURTHER INFORMATION CONTACT: If you have questions on this test deviation, call or email Mr. Doug Blakemore, Eighth Coast Guard District Bridge Administrator; telephone (504) 671-2128, email Douglas.A.Blakemore@uscg.mil.

SUPPLEMENTARY INFORMATION:

I. Background, Purpose and Legal Basis

The CSX Railroad drawbridge across Three Mile Creek, mile 0.0 in Mobile, AL operates under 33 CFR 117.500. In the open to vessel position the drawbridge has a horizontal clearance of 56 feet and unlimited vertical clearance. In the closed to vessel position the bridge has a vertical clearance of 10 feet.

This bridge has failed to open on signal when CSX builds trains from their rail yard in Mobile, AL that extend onto the drawbridge. CSX has changed their rail yard operating schedule to open the bridge to vessel traffic each day from 6:30 a.m.-7:30 a.m., 2:30 p.m.-3:30 p.m. and 10:30-p.m.-11:30 p.m. During these periods CSX will not station trains on the bridge from their yard. All vessels in the queue will be passed through the bridge. CSX will open the bridge on signal at all other times if there are no trains on the bridge. This change will allow vessel operators to schedule their trips through this bridge and to pass through at all other times when there are no trains on the bridge.

From 6 a.m. June 1, 2021 through 6 p.m. August 2, 2021 the draw of the CSX railroad bridge across Three Mile Creek mile 0.0 shall open daily from 6:30 a.m.-7:30 a.m., 2:30 p.m.-3:30 p.m., and 10:30 p.m.-11:30 p.m. At all other times the draw shall open on signal if there are no train cars stationed on the bridge. During all openings the draw shall not close until the queue of all vessels seeking passage is cleared.

This 60 day test deviation will allow the Coast Guard to collect data on the impact of the proposed regulation change on vessels.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned as being available in this docket and all public comments, will be in our online docket at https://www.regulations.gov and can be viewed by following that website's instructions. Additionally, if you go to the online docket and sign up for email alerts, you will be notified of any posting or updates to the docket.

Dated: May 20, 2021.
Douglas A. Blakemore,
Bridge Administrator, Eighth Coast Guard District.

[FR Doc. 2021-11396 Filed 5-28-21; 8:45 am]

BILLING CODE 9110-04-P